DEPARTMENT OF LABOR

Office of the Secretary

Submission for OMB Emergency Review; Comment Request

May 28, 2004.

The Department of Labor has submitted the following (see below) information collection requests (ICR), utilizing emergency review procedures, to the Office of Management and Budget (OMB) for review and clearance in accordance with the Paperwork Reduction Act of 1995 (Pub. L. 104-13, 44 U.S.C. Chapter 35). OMB approval has been requested by June 15, 2004. A copy of this ICR, with applicable supporting documentation, may be obtained by calling the Department of Labor Departmental Clearance Officer, Ira L. Mills ((202) 693-4122).

Comments and questions about the ICR listed below should be forwarded to the Office of Information and Regulatory Affairs, Attn: OMB Desk Officer for the Employment and Training Administration, Room 10235, Washington, DC 20503. Comments are requested 10 days from the publication date of this notice. DOL has requested an OMB Emergency Review and approval by June 15, 2004.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration.

Title: Non Production Questionnaire.

Type of Review: New collection.

OMB Number: 1205-ONEW.

Affected Public:: Individuals or households; State, local or tribal governments.

Frequency: On occasion.

Number of Respondents: 810.

Number of Annual Responses: 810.

Estimated Time Per Responses: 3.5 hours.

Estimated Burden: 2,835.

Total annualized capital/startup costs: $0.

Total annual costs (operating/maintaining systems or purchasing services: $0.

Description: Sections 222, 223 and 249 of the Trade Act of 1974, as amended, require the Secretary of Labor to issue a determination for groups of workers as to their eligibility to apply for Trade Adjustment Assistance (TAA). After reviewing all of the information obtained for each petition for trade adjustment assistance filed with the Department, a determination is issued as to whether the statutory criteria for certification are met.

The information collected in ETA Form 9118 will be used by the Secretary to specifically determine whether petitioning worker groups that perform a service are related to production of articles. If worker groups are related to production of articles, the form will request contact information so that sufficient article production and sales data may be collected from the appropriate contact to assess whether the production that service workers support is adversely affected by trade, and to adequately assess whether the group eligibility requirements detailed in section 223 of the Trade Act of 1974, as amended, have been met.

Ira L. Mills,
Departmental Clearance Officer.

[FR Doc. 04-12672 Filed 6-3-04; 8:45 am]

BILLING CODE 4510-30-P